DEPARTMENT OF HOMELAND SECURITY

Transportation Security Administration

Revision of Agency Information Collection Activity Under OMB Review: Sensitive Security Information Threat Assessments

AGENCY: Transportation Security Administration, DHS.

ACTION: 30-Day notice.

SUMMARY: This notice announces that the Transportation Security Administration (TSA) has forwarded the Information Collection Request (ICR), Office of Management and Budget (OMB) control number 1652-0042, abstracted below to OMB for review and approval of a revision of the currently approved collection under the Paperwork Reduction Act (PRA). The ICR describes the nature of the information collection and its expected burden. TSA published a Federal Register notice, with a 60-day comment period soliciting comments, of the following collection of information on November 25, 2016. The collection involves TSA determining whether individuals seeking access to sensitive security information (SSI) may be granted access to the SSI.

DATES: Send your comments by July 19, 2017 A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Sensitive Security Information Threat Assessments.

Type of Request: Revision of a currently approved collection.

OMB Control Number: 1652-0042.

Forms(s): TSA 2211.

Affected Public: Individuals seeking access to SSI Information.

Abstract: TSA has implemented sec. 525(d) of the DHS Appropriations Act, 2007 (Pub. L. 109-295, 120 Stat 1355, 1382, Oct. 4, 2006), as reenacted,¹ by establishing a process whereby a party seeking access to SSI in a civil proceeding in Federal court that demonstrates a substantial need for relevant SSI in preparation of the party's case may request that the party's representative or court reporter be granted access to the SSI. Under §§ 1520.11 and 1520.15 of 49 CFR, TSA has also extended this process to include a prospective bidder who is seeking to submit a proposal in response to a request for proposal issued by TSA; an individual involved in the performance of contractual agreements (for example, bailments), or other transaction agreements, or an individual receiving access to SSI under 49 CFR 1520.15(e), other conditional disclosure.

¹ Consolidated and Further Continuing Appropriations Act, 2013, Pub. L. 113-6, Div. D., Title V., sec. 510 (127 Stat. 198, 368, Mar. 26, 2013).

Pursuant to sec. 114 of the Aviation and Transportation Security Act, Pub. L. 107-71 (115 Stat. 597, Nov. 19, 2001), and 49 CFR 1520.11(c), TSA may make an individual's access to SSI contingent upon satisfactory completion of a security threat assessment (STA), including a criminal history records check (CHRC); and/or a name-based check against Federal law enforcement, terrorism, and immigration databases; and/or other procedures and requirements for safeguarding SSI that are satisfactory to TSA. TSA collects identifying information, an explanation supporting the individuals' need for the information, and other information related to safeguarding SSI to conduct the threat assessments. TSA uses the results of the STA to make a final determination on whether the individual may be granted access to SSI. TSA also uses the information to determine whether provision of access to specific SSI would present a risk of harm to the nation.

TSA is revising the collection of information to allow individuals who are members of the TSA Pre√® Application Program, to provide a known traveler number (KTN) to facilitate the security threat assessment. Under that Program, individuals submit identifying information and fingerprints for a CHRC to help TSA determine eligibility for the Program, very similar to what TSA requires before providing SSI to an individual. TSA will use the information provided as part of the TSA Pre√® Application Program as part of its determination of an individual's eligibility to be granted access to SSI.

Number of Respondents: 263.²

² After the issuance of the 60-day notice, TSA received additional respondents and burden hours data for the collection. The reported estimated annual number of respondents has been updated from 127 to 263 respondents. The estimated annual time burden of 127 has been updated to 275 burden hours.

Estimated Annual Burden Hours: An estimated 275 hours annually.

Dated: June 8, 2017.
Christina A. Walsh,
TSA Paperwork Reduction Act Officer, Office of Information Technology.

[FR Doc. 2017-12597 Filed 6-16-17; 8:45 am]

BILLING CODE 9110-05-P